DEPARTMENT OF ENERGY

Federal Energy Regulatory Commission

[Docket No. GP02-1-000]

Bowers Drilling Company, Inc.; Notice of Petition for Adjustment

February 14, 2002.

Take notice that on January 3, 2002, Bowers Drilling Company, Inc. (Bowers) filed a petition for adjustment under section 502(c) of the Natural Gas Policy Act of 1978 (NGPA),¹ requesting relief from its obligation to pay Kansas ad valorem tax refunds to Williams Gas Pipelines Central, Inc. (Williams) for the period from 1983 to 1988, as required by the Commission's September 10, 1997 order in Docket No. RP97-369-000, et al.² Bowers' petition is on file with the Commission and open to public inspection.

¹ 15 U.S.C. § 3142(c) (1982).

² 80 FERC ¶ 61,264 (1997); order denying reh'g issued January 28, 1998, 82 FERC ¶ 61,058 (1998).

Bowers' request for relief is based on a March 17, 1992 take-or-pay settlement agreement with Williams. Bowers asserts the settlement agreement includes a release from all claims regarding its contracts with Williams, for all periods prior to 1992, including any Federal Energy Regulatory Commission claims arising out of, or in conjunction with, or relating to its contracts with Williams. In view of this, and because the claim for Kansas ad valorem tax reimbursement was taken into account when Bowers agreed to the settlement amount, Bowers contends that granting relief is warranted.

Any person desiring to be heard or to protest said petition should on or before 15 days after the date of publication in the Federal Register of this notice, file with the Federal Energy Regulatory Commission, 888 First Street, NE., Washington, DC 20426, a motion to intervene or a protest in accordance with the requirements of the Commission's Rules of Practice and Procedure (18 CFR 385.1105 and 385.1106). Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-4249 Filed 2-21-02; 8:45 am]

BILLING CODE 6717-01-P